DEPARTMENT OF LABOR

Employment and Training Administration

[TA-W-72,232]

ABM Janitorial Services, Subsidiary of ABM Industries, Inc., Janitorial Division, Formerly Working at Chrysler Group, LLC, Formerly Known as Chrysler, LLC, Plymouth Road Office Complex, Detroit, MI; Notice of Termination of Investigation

Pursuant to Section 223 of the Trade Act of 1974, as amended, an investigation was initiated in response to a petition filed on September 8, 2009 on behalf of workers of ABM Janitorial Services, subsidiary of ABM Industries, Inc., Janitorial Division, working at Chrysler Group, LLC, formerly known as Chrysler, LLC, Plymouth Road Complex, Detroit, Michigan.

The petitioning group of workers is covered by an active certification, (TA-W-70,948) which expires on January 20, 2012. Consequently, further investigation in this case would serve no purpose, and the investigation has been terminated.

Signed at Washington, DC, this 5th day of March 2009.
Elliott S. Kushner,
Certifying Officer, Division of Trade Adjustment Assistance.

[FR Doc. 2010-5354 Filed 3-11-10; 8:45 am]

BILLING CODE 4510-FN-P